DEPARTMENT OF EDUCATION

Notice of Proposed Information Collection Requests

AGENCY: Department of Education.

ACTION: Correction notice.

SUMMARY: On August 30, 2006, the Department of Education published a notice in the Federal Register (Page 51587, Column 1) for the information collection, “The IEPS Reporting System (NRC) Program Which Includes the Performance Reports for 14 Programs—the FLAS Program, IIPP Program, UISFL Program, BIE Program, CIBE Program, AORC Program, LRC Program, IRS Program, FRA Program, DDRA Program, SA Program, GPA Program, and TICFIA Program.” This notice hereby corrects the title to “The IEPS Reporting System Which Includes the Performance Reports for 14 Programs—the NRC Program, the FLAS Program, IIPP Program, UISFL Program, BIE Program, CIBE Program, AORC Program, FRA Program, DDRA Program, SA Program, GPA Program, and TICFIA Program.” The IC Clearance Official, Regulatory Information Management Services, Office of the Chief Information Officer, hereby issues a correction notice as required by the Paperwork Reduction Act of 1995.

Dated: September 11, 2006.
Angela C. Arrington,
IC Clearance Official, Regulatory Information Management Services, Office of the Management.

[FR Doc. E6-15291 Filed 9-14-06; 8:45 am]

BILLING CODE 4000-01-P